FEDERAL COMMUNICATIONS COMMISSION

47 CFR Part 73

[DA 09-2263; MB Docket No. 09-190; RM-11566]

Radio Broadcasting Services; Stonewall, Texas

AGENCY: Federal Communications Commission.

ACTION: Proposed rule.

SUMMARY: This document sets forth a proposal to amend the FM Table of Allotments, Section 73.202(b) of the Commission's rules, 47 C.F.R. Section 73.202(b). The Commission requests comment on a petition filed by Katherine Pyeatt proposing the allotment of FM Channel 280A as a first local service at Stonewall, Texas. Channel 280A can be allotted at Stonewall in compliance with the Commission's minimum distance separation requirements with a site restriction of 13.8 km (8.6 miles) southwest of Stonewall, at 30-08-45 North Latitude and 98-45-45 West Longitude. See Supplementary Information infra.

DATES: The deadline for filing comments is December 31, 2009. Reply comments must be filed on or before 15 days following the deadline for initial comments.

ADDRESSES: Federal Communications Commission, 445 12th Street, SW, Washington, DC 20554. In addition to filing comments with the FCC interested parties should serve petitioner, as follows: Katherine Pyeatt, 2215 Cedar Springs Road, Suite 1605, Dallas, Texas 75201.

FOR FURTHER INFORMATION CONTACT: Deborah A. Dupont, Media Bureau, (202) 418-7072.

SUPPLEMENTARY INFORMATION: This is a synopsis of the Commission's Notice of Proposed Rule Making, MB Docket 09-190, adopted October 21, 2009, and released October 23, 2009. The full text of this Commission decision is available for inspection and copying during normal business hours in the FCC Reference Information Center (Room CY-A257), 445 12th Street, SW., Washington, DC. 20554.

The complete text of this decision may also be purchased from the Commission's copy contractor, Best Copy and Printing, Inc., 445 12th Street, SW, Room CY-B402, Washington, DC 20554, 800-378-3160 or via the company's website, http://www.bcpiweb.com.

This document does not contain proposed information collection requirements subject to the Paperwork Reduction Act of 1995, Public Law 104-13. In addition, therefore, it does not contain any proposed information collection burden ”for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73 - RADIO BROADCAST SERVICES

1. The authority citation for Part 73 continues to read as follows:

Authority: 47 U.S.C. 154, 303, 334, 336.

$ 73.202 [Amended]

2. Section 73.202(b), the Table of FM Allotments under Texas, is amended by adding Stonewall, Channel 280A.

Federal Communications Commission.

Federal Communications Commission.
John A. Karousos,
Assistant Chief,
Audio Division,
Media Bureau.

[FR Doc. E9-28671 Filed 11-30-09; 8:45 am]

BILLING CODE 6712-01-S